FEDERAL COMMUNICATIONS COMMISSION

[DA 24-1065; FR ID 254307]

Media Bureau Announces Filing Window for New Noncommercial Educational Television Stations From December 4 Through December 11, 2024, and Sets Forth Filing Procedures and Requirements

AGENCY: Federal Communications Commission.

ACTION: Notice.

SUMMARY: The Media Bureau (Bureau) announces that an upcoming filing window for applications for new noncommercial educational (NCETV) station construction permits (NCETV Filing Window) will open at 12:01 a.m. EST on December 4, 2024, and close at 6:00 p.m. EST on December 11, 2024. In addition, effective 12:01 a.m. EST on December 3, 2024, the Commission will not accept rulemaking petitions for full power television stations to change channel, and minor and major change applications for full power and Class A television stations. These freezes will continue in effect until the close of the NCETV Filing Window on December 11, 2024 at 6 p.m. EST (Application Deadline).

DATES: The Media Bureau will conduct the NCETV Filing Window from December 4, 2024 through December 11, 2024.

FOR FURTHER INFORMATION CONTACT: Emily Harrison, Emily.Harrison@fcc.gov, (202) 418-1665, Kevin Harding, Kevin.Harding@fcc.gov, (202) 418-7077, or Mark Colombo, Mark.Colombo@fcc.gov, (202) 418-7611 of the Video Division, Media Bureau.

SUPPLEMENTARY INFORMATION: This is a synopsis of the Media Bureau's Public Notice, in DA 24-1065, released on October 10, 2024. The full text of this document is available for download at https://www.fcc.gov/document/media-bureau-announces-nce-filing-window-opportunity. To request materials in accessible formats (braille, large print, computer diskettes, or audio recordings), please send an email to FCC504@fcc.gov or call the Consumer & Government Affairs Bureau at (202) 418-0530 (VOICE), (202) 418-0432 (TTY).

Synopsis

The NCETV Filing Window will open at 12:01 a.m. EST on December 4, 2024, and close at 6 p.m. EST on December 11, 2024. The NCETV Filing Window provides an opportunity for applications for new NCETV station construction permits. Applications in the NCETV Filing Window will be filed electronically via the Commission's Licensing and Management System (LMS) on FCC Form 2100, Schedule A-340 and no filing fee is required for this application. Instructions on completing Form 2100, Schedule A-340 are available at https://www.fcc.gov/sites/default/files/lms-Form-2100-Schedule-A-340-NCE-construction-permit-application-instructions.pdf.

In conjunction with the NCETV Filing Window, effective October 10, 2024, the Commission will not accept petitions to amend the Table of TV Allotments to allot new reserved noncommercial educational channels to communities. In addition, effective 12:01 a.m. EST on December 3, 2024, the Commission will not accept rulemaking petitions for full power television stations to change channel, and minor and major change applications for full power and Class A television stations. These freezes will continue in effect until the close of the NCETV Filing Window on December 11, 2024 at 6 p.m. EST.

Basic NCETV Eligibility Certifications

Nonprofit Educational Eligibility Qualifications. Applicants for NCETV stations must meet basic eligibility requirements set forth in section 73.621 of the Commission's rules (Rules) and established licensing policies that are not codified in its rules. In addition to the Bureau's Public Notice, applicants should refer to the Instructions to Schedule A-340 for guidance on basic eligibility requirements.

Section 73.621(a) of the Rules requires that a reserved channel be “licensed only to nonprofit educational organizations . . . .” Thus, Schedule A-340 requires that each applicant certify that it is either a nonprofit educational institution, a governmental entity other than a school, or a nonprofit educational organization. All nonprofit educational institutions, including public and private schools and colleges, should choose “nonprofit educational institution” under “Legal Certifications/Eligibility” on Schedule A-340. Government entities, including agencies and boards that do not operate a school, should choose “governmental entity other than school.” Nonprofit educational organizations that are neither schools nor government entities, such as private educational nonprofit corporations, should choose “nonprofit educational organization, other than described above.” If the applicant cannot answer “Yes” to any subpart of this question, the applicant is not eligible to hold an NCETV station authorization.

Television applicants other than governments and schools are eligible to hold NCETV authorizations only if the majority (more than 50 percent) of their governing board or leaders are representative of a broad cross section of community elements. Thus, if the applicant chooses “nonprofit educational organization” under the Eligibility certification, it is required to certify that persons in leadership positions, such as its officers, directors and members of its governing board, are broadly representative of the educational, cultural, and civic segments of the principal community to be served in order to establish their basic qualifications. Some examples of elements of the community are businesses; charities; civic, neighborhood and fraternal organizations; culture; education; environment; government; labor; military; minority and ethnic groups; organizations of and for the elderly, women, or youth; professions; and religion. For the governing board or leadership to be considered broadly representative, the applicant must have at least four different elements of the community among its leadership. And, as the Commission has stated, “a local headquarters or residence must be a primary place of business or primary residence and not, for example, a Post office box, lawyer's office, branch office, or vacation home, which would not provide sufficient contact between the station's decision and policy makers and the area to be served.”

Applicants whose educational qualifications and proposed programming were previously approved by the Commission and intend to use the proposed station to advance a similar program may so certify by answering “Yes” to the second question in the “Eligibility” section on the Legal Certifications page of Schedule A-340 and indicate the file number of the most recent full power television NCETV application in which the Commission granted such approval. Applicants not previously approved or those applicants planning to advance a program dissimilar from one previously approved, i.e., answering “No,” must establish their qualifications. The applicant must provide an exhibit showing that it has an educational objective and that the station will be used primarily for the advancement of an educational program that will further that objective in accordance with 47 CFR 73.621. In considering these requirements, emphasis is placed on proposed station programs which are clearly educational in nature, i.e., actually involve teaching or instruction, whether for formal credit or not. However, it is not necessary that the proposed station's programming be exclusively educational in nature. Also, all programming on the station must be noncommercial in nature, with no advertisements, and must not offer support for or opposition to a candidate for political office. The applicant should carefully review its governing documents to confirm that it has an educational objective and that the station will be used for the advancement of an educational program. In addition, we remind applicants that, should they obtain a permit in this window, they cannot conduct third-party fundraising on their stations beyond a minimal amount permitted by our rules.

Section 73.621(a) of the Rules further provides that an NCETV station will be licensed only upon a showing that the station will be used “primarily to serve the educational needs of the community; for the advancement of educational programs; and to furnish a nonprofit and noncommercial television broadcast service.” In order to comply with the requirement that an NCETV station “be used primarily to serve the educational needs of the community,” more than half of the hours of programming aired on a reserved channel must primarily serve an educational, instructional or cultural purpose in the applicant's proposed community of license. The applicant must provide an attachment showing that the station will be used for the advancement of an educational program in compliance with this requirement for NCETV stations.

Financial Qualifications. Schedule A-340 requires each applicant for a new NCETV station to certify that, at the time it files its application, the applicant has sufficient net liquid assets on hand or committed sources of funds to construct the proposed facility and operate it for three months, without additional funds. Each applicant should be prepared to submit supporting documentation upon Bureau staff request.

Reasonable Site Assurance. At the time it files its application, an applicant must have reasonable assurance that the specified site will be available. Applicants filing this Schedule A-340 must certify that the site specified in the application is available for its intended use. If reasonable assurance is not based on the applicant's ownership of the proposed site or structure, the applicant must certify that it has obtained reasonable assurance of the site's availability by contacting the owner or person possessing control of the site or structure. The applicant must specify the name of the person contacted, the person's telephone number, and whether the contact is the tower owner, agent, or authorized representative.

Comparative Consideration of Applications

During the NCETV Filing Window, applications may be filed for the channels at the locations listed in Appendix A. Applications filed for the same channel and location are considered mutually exclusive (MX). Each NCETV applicant must complete the “Point System Factors/Tie Breakers” section of Schedule A-340 by the NCETV Application Deadline. If MX applications proceed to a point system analysis, the Commission will review the point submissions to compare the MX applications and tentatively select the application with the highest point total from each MX group for grant.

Point System Selection Criteria. In cases of MX applications for new NCETV stations to operate on reserved channels, each application is reviewed pursuant to the Commission's comparative process. This procedure awards a maximum of seven merit points based on four criteria deemed to be most relevant to predicting the applicant best qualified to provide the service for which this spectrum has been reserved. First, three points are awarded to applicants who have been local and established for at least two years. Second, two points are awarded for local diversity of ownership if there is no overlap of the principal community contour of the proposed station and any other station attributable to the applicant. Third, two points will be awarded for certain statewide networks providing programming to accredited schools, which cannot claim a credit for local diversity of ownership. Fourth, one point is awarded to an applicant if its proposed area and population is 10 percent greater than the next best proposal, or two points if 25 percent greater than the next best proposal. The tentative selectee is the applicant with the highest score. An overview of the Commission's current comparative procedures and details on comparative information an applicant must submit are provided below.

Established Local Applicant. To qualify for the three points as an “established local applicant” an applicant must certify that it has been local continuously for at least two years immediately prior to the Application Deadline. To be considered local, a non-governmental applicant must have a physical headquarters, campus, or 75 percent of its governing board members residing within 25 miles of the reference coordinates of the proposed community of license. A governmental unit is considered local within its jurisdictional boundaries.

If an applicant certifies that it is an “established local applicant,” it must submit substantiating documentation with its application to illustrate how it qualifies as local and established. Examples of acceptable documentation include corporate material from the secretary of state, lists of names, addresses, and length of residence of board members and copies of governing documents requiring a 75 percent local governing board, or course brochures indicating that classes have been offered at a local campus for the preceding two years.

Diversity of Ownership. To qualify for the two points for “diversity of ownership,” an applicant must certify that the principal community contours of its proposed NCETV station do not overlap with those of any other full-service or Class A television station in which the applicant, or any party to the application, holds an attributable interest.

To qualify for the diversity of ownership points, an applicant must submit either a contour map showing no overlap with the proposed NCETV station, or a statement that the applicant holds no attributable interests in any nearby full service or Class A television stations.

Divestiture Pledges. We will permit an NCETV applicant with an overlapping attributable interest to qualify for diversity of ownership points if it commits to divest the broadcast interest or resign from the attributable positional interest. The divestiture pledge must be submitted with the application by the Application Deadline. The applicant, however, will not be required to complete the pledged action by the Application Deadline. Rather, if the permit is awarded based on points, the actual divestiture or resignation must be completed by the time the new NCETV station commences program test operations.

Statewide Network. The Commission awards two points for certain statewide networks providing programming to accredited schools. These points are available only to applicants that cannot claim a credit for local diversity of ownership. The statewide network credit is an alternative for applicants that use multiple stations to serve large numbers of schools and, therefore, do not qualify for the local diversity of ownership credit. Applicants claiming points as a statewide network must submit supporting documentation as an application exhibit.

Technical Parameters. The Commission awards up to two points to an applicant that proposes the best technical proposal in an MX group (i.e., proposes service to the largest population and area, excluding substantial areas of water). An applicant will receive one point if its proposed service area and population are 10 percent greater than those of the next best area and population proposals, or two points if both are 25 percent greater than those of the next best area and population proposals, as measured by each proposed station's predicted noise-limited service contour (NLSC) applicable to its channel. If the best technical proposal does not meet the 10 percent threshold, no applicant will be awarded points under this criterion.

Each applicant must include an application exhibit explaining how it calculated the technical parameters. The applicant should specify the year and blocks of census information used and the method used to determine area. Area must be measured in square kilometers and exclude significant areas of water, e.g., ocean and lakes. Population should be measured using the 2020 Census Block Data available from the Census Bureau.

Tiebreakers. In the event MX applicants are tied with the highest number of points, the tied applicants will proceed to a tie-breaker round. The first tie-breaker is the number of radio or television station authorizations attributable to each applicant. The applicant must count all attributable full power commercial and NCE television, and Class A television, authorizations (licenses and construction permits). The applicant with the fewest attributable authorizations prevails.

If the tie is not broken by this first factor, the Commission will apply a second tie-breaker: the number of pending television station applications attributable to each applicant. When reporting pending applications, applicants must include new and major change television applications, including the subject application and all other applications filed in this window by the Application Deadline. Applicants should not include any requests to participate in an auction filed on Schedule 175 and other applications such as voluntary assignment of license, license renewal, and minor change in existing facilities. The tentative selectee will be the applicant with the fewest pending new and major change applications in the same service at the time of filing.

Timely Documentation of Comparative Qualifications. As noted, Schedule A-340 is certification-based, but requires applicants to document certain claims by submitting supporting information. We caution applicants that the basis for applicant point claims must be readily ascertainable from timely-filed application exhibits. Applicants, therefore, should review their supporting documentation thoroughly before filing.

Certifications which require the applicant to submit documentation, but which are not supported with any such timely documentation, will not be credited. For example, every applicant claiming points for diversity of ownership must certify that the proposed station's service area would not overlap that of an attributable existing station. With respect to the diversity certification, the preferred supporting documentation is a map showing no overlap, or a statement that none of the parties to the application holds an attributable interest in any other station. While there is some flexibility in the type of documentation an applicant may provide, an applicant submitting no timely documentation at all cannot be found to have made a valid certification and will not receive the claimed points. The Commission will not consider documentation to support a claimed comparative point if it is submitted in an amendment after the Application Deadline.

“Snap Shot” Date for Establishing Points and Comparing Applications. The NCETV applicant's qualifications for points will be initially determined “as of the closing of the filing window”—i.e., the Application Deadline. For example, NCE organizations will be considered “established” if they have operated as local entities since December 11, 2022—i.e., for at least two years prior to the Application Deadline. These “snap shot” applicant characteristics establish an applicant's maximum points and its maximum position in the event of a tie-breaker. This common reference date ensures a level competitive field for applicants, with their qualifications all compared as of the same time.

Any changes made after the Application Deadline may potentially diminish, but cannot enhance, an applicant's comparative position and point total. Therefore, the Commission will take into account any amendments that adversely affect an applicant's point total and comparative position. The Commission will not consider any amendments, filed after the Application Deadline, which improve an applicant's comparative position. For example, an applicant may lose claimed points, such as the diversity of ownership points, as a result of acquiring an overlapping station after the Application Deadline. In contrast, if an applicant certifies that it does not qualify for one of the point factors, it cannot later amend its application to attempt to claim such points. This is the case even if the applicant actually would have qualified for the point it is seeking at the time it filed the application.

Acceptability of Applications. Following the Application Deadline, the Bureau will review all applications for compliance with the relevant technical and legal rules. If an application is defective (i.e., it does not comply with the Rules or meet the criteria specified in this Public Notice), we will issue a deficiency letter to the applicant providing the reason for deficiency and giving the applicant thirty days to amend its application to cure the deficiency. Failure to correct all deficiencies within 30 days of the date of the letter will result in dismissal of the application.

Amendments to Applications. Following the Application Deadline, each applicant must continue to maintain the accuracy and completeness of the information in its application, and notify the Commission, by electronically filing an amendment, of any substantial change that may be of decisional significance to the application. For example, an applicant will be required, pursuant to section 1.65 of the Rules, to update its number of authorizations (Tiebreaker section) if/when one of its pending applications is granted.

Local Public Notice. Applicants filing Schedule A-340 must provide the public with notice to inform the community about the proposal. Applicants for construction permits for a new NCETV station must give online notice, either on the station website or a website affiliated with the station, its licensee, or its parent entity, or otherwise by posting notice in the form prescribed in the Rules on a publicly accessible, locally targeted website, for 30 consecutive days following acceptance of the application for filing.

The actions in the Public Notice are taken by the Chief, Media Bureau, pursuant to authority delegated by sections 0.61 and 0.283 of the Rules. 47 CFR 0.61 and 0.283.

Appendix A—Construction Permits in NCETV Filing Window
State | Community | Channel No.
AL | Vernon | * 4
AK | Anchorage | * 26
AK | Bethel | * 3
CA | Colusa | * 2
CA | Fort Bragg | * 4
CA | Tulare | * 3
ID | Filer | * 18
IA | Ames | * 21
NM | Alamogordo | * 4
OR | Jacksonville | * 4
TX | Waco | * 20
VA | Waynesboro | * 12

Federal Communications Commission.
Thomas Horan,
Chief of Staff, Media Bureau.

[FR Doc. 2024-24245 Filed 10-18-24; 8:45 am]

BILLING CODE 6712-01-P